ENVIRONMENTAL PROTECTION AGENCY

[FRL-7492-5]

Sector Strategies Program; Announcement of Program Launch

AGENCY: Environmental Protection Agency.

ACTION: Notice.

SUMMARY: The U.S. Environmental Protection Agency (EPA) is announcing the selection of seven sectors to participate in the multi-media sector program in the Office of Policy, Economics and Innovation (OPEI). The following sectors will participate in the program: Agribusiness, Cement Manufacturing, Colleges and Universities, Construction, Forest Products, Iron and Steel Manufacturing, and Ports. An eighth sector may be added in the near future.

On September 20, 2002, EPA announced the new program and solicited expressions of interest from trade organizations. Responses were evaluated on the basis of each sector's potential to address the Administration's current environmental priorities—reductions in greenhouse gas emissions and smog, improved water quality and infrastructure, increased recycling of hazardous waste, and enhanced environmental protection in agriculture. We also evaluated each sector's potential to expand the voluntary use of environmental management systems (EMS) among its member companies.

The sectors chosen to participate in the program will be primarily represented by the following associations: (1) Agribusiness—National Food Processors Association; (2) Cement Manufacturing—Portland Cement Association; (3) Colleges and Universities—American Council on Education, Association of Higher Education Facilities Officers, Campus Consortium for Environmental Excellence, Campus Safety, Health and Environmental Management Association, Howard Hughes Medical Institute, and the National Association of College and University Business Officers; (4) Construction—Associated General Contractors of America; (5) Forest Products—American Forest and Paper Association; (6) Iron and Steel Manufacturing—American Iron and Steel Institute and Steel Manufacturers Association; and (7) Ports—American Association of Port Authorities.

The new program will have staff level points-of-contact within OPEI who are highly knowledgeable about each specific sector. These individuals will play a liaison function among associations, individual companies and other operating entities, EPA program and regional offices, state and local governments, technical experts, and other stakeholder groups. The sector points-of-contact also will focus their attention in three areas: addressing regulatory or other government barriers to improved environmental performance, helping to expand the use of EMS as a tool to achieve better performance, and measuring sector-wide performance improvements.

EPA anticipates that participants in the program will benefit from coordinated, cooperative, and constructive problem-solving with government. The Agency will invite participating sector representatives to offer their own innovative ideas for reducing environmental impacts and developing strategies to promote the use of EMS. Because sector-wide performance improvement is the goal, EPA will work with trade associations and others to find creative ways to measure environmental progress and burden reductions.

OPEI will maintain points-of-contact with the Metal Finishing, Metal Casting, Shipbuilding & Ship Repair, and Specialty-Batch Chemical sectors. OPEI will follow through on EMS and other projects that are ongoing with these sectors. Accomplishments with the Meat Processing industry will support new work with the Agribusiness Sector.

FOR FURTHER INFORMATION CONTACT: Robert Benson, Director, Sector Strategies Division (mail code 1808T), 1200 Pennsylvania Ave., NW., Washington, DC 20460. Email: benson.robert@epa.gov. Telephone: 202-566-2954.

Dated: April 28, 2003.
Jessica L. Furey,
Associate Administrator for Policy, Economics and Innovation.

[FR Doc. 03-10887 Filed 4-30-03; 8:45 am]

BILLING CODE 6560-50-P